DEPARTMENT OF AGRICULTURE

Animal and Plant Health Inspection Service

[Docket No. APHIS-2017-0018]

Southern Gardens Citrus Nursery, LLC; Notice of Intent To Prepare an Environmental Impact Statement for Permit for Release of Genetically Engineered Citrus tristeza virus

AGENCY: Animal and Plant Health Inspection Service, USDA.

ACTION: Notice.

SUMMARY: We are announcing to the public that the Animal and Plant Health Inspection Service (APHIS) intends to prepare an environmental impact statement (EIS) evaluating the environmental impacts that may result from the potential approval of an application from Southern Gardens Citrus Nursery, LLC, seeking a permit for the environmental release of genetically engineered Citrus tristeza virus (CTV). The virus has been genetically engineered to express defensin proteins from spinach as an approach to manage citrus greening disease throughout the State of Florida. APHIS considers this genetically engineered CTV to be a biological control agent since it is a biological organism intended to help manage citrus greening disease. Issues to be addressed in the EIS include the potential environmental impacts to managed natural and non-agricultural lands, agricultural production systems, the physical environment, biological resources, human health, socioeconomics, federally listed threatened or endangered species, and cultural or historic resources. We are also requesting public comments to further delineate the scope of the alternatives and environmental impacts and issues to be included in this EIS.

DATES: We will consider all comments that we receive on or before May 10, 2017.

ADDRESSES: You may submit comments by either of the following methods:

• Federal eRulemaking Portal: Go to http://www.regulations.gov/#!docketDetail;D=APHIS-2017-0018.

• Postal Mail/Commercial Delivery: Send your comment to Docket No. APHIS-2017-0018, Regulatory Analysis and Development, PPD, APHIS, Station 3A-03.8, 4700 River Road Unit 118, Riverdale, MD 20737-1238.

Supporting documents and any comments we receive on this docket may be viewed at http://www.regulations.gov/#!docketDetail;D=APHIS-2017-0018 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Alan Pearson, Chief, Plants, Pests, and Protectants Branch, Biotechnology Regulatory Services, APHIS, 4700 River Road Unit 147, Riverdale, MD 20737-1238; (301) 851-3944, email: Alan.Pearson@aphis.usda.gov. To obtain copies of the application, contact Ms. Cindy Eck at (301) 851-851-3882, email: cynthia.a.eck@aphis.usda.gov.

SUPPLEMENTARY INFORMATION:

Background

Under the authority of the plant pest provisions of the Plant Protection Act (PPA), as amended (7 U.S.C. 7701 et seq.), the regulations in 7 CFR part 340, “Introduction of Organisms and Products Altered or Produced Through Genetic Engineering Which Are Plant Pests or Which There Is Reason to Believe Are Plant Pests,” regulate, among other things, the introduction (importation, interstate movement, or release into the environment) of organisms and products altered or produced through genetic engineering that are plant pests or that there is reason to believe are plant pests. Such genetically engineered organisms and products are considered “regulated articles.” The regulations in § 340.2 contain a list of organisms considered to be regulated articles, including all members of groups containing plant viruses, and all other plant and insect viruses.

The regulations in § 340.4(a) provide that any person may submit an application for a permit for the introduction of a regulated article to the Animal and Plant Health Inspection Service (APHIS). Paragraph (b) of § 340.4 describes the form that an application for a permit for the environmental release of a regulated article must take and the information that must be included in the application. In addition, paragraph (b) states that applications must be submitted at least 120 days in advance of the proposed release into the environment in order to allow for APHIS review. However, the 120-day review period would be extended if preparation of an environmental impact statement is necessary.

On February 13, 2017, APHIS received a permit application from Southern Gardens Citrus Nursery, LLC (APHIS Permit Number 17-044-101r) for the environmental release of Citrus tristeza virus (CTV) genetically engineered to express defensin proteins from spinach as an approach to manage citrus greening disease. Citrus greening disease, also called huanglongbing, was first detected in the United States in 2005 in Florida, and has since become a devastating disease of citrus in Florida. There is no known cure for citrus greening disease.

The genetically engineered CTV expressing antimicrobial peptides to control citrus greening disease has been field tested in Hendry and Polk Counties, FL, since June 2010 under confined conditions that restrict the virus to the site of the field test. APHIS has provided significant oversight of these confined field trials and has not detected any negative impacts on the environment, including threatened and endangered species. Permitted field trials are planned and in progress in a number of regions in Florida to determine the efficacy of expression of spinach defensins by CTV. The action proposed in the permit application under consideration is to commercialize the use of genetically engineered CTV as a biological means to manage citrus greening disease in Florida. The environmental impact statement (EIS) will evaluate the environmental impacts associated with this action throughout the State of Florida. Decisions on where the genetically engineered CTV would be deployed would be determined by Southern Gardens Citrus Nursery, LLC, in agreements with growers, and deployment would be monitored by APHIS. The genetically engineered CTV would be applied to citrus trees by grafting (i.e., not by spraying the trees by ground or air).

Under the provisions of the National Environmental Policy Act (NEPA) of 1969, as amended (42 U.S.C. 4321 et seq.), Federal agencies must examine the potential environmental impacts of proposed major Federal actions that may significantly affect the quality of the human environment before those actions can be taken. In accordance with NEPA, regulations of the Council on Environmental Quality for implementing the procedural provisions of NEPA (40 CFR parts 1500-1508), U.S. Department of Agriculture regulations implementing NEPA (7 CFR part 1b), and APHIS' NEPA Implementing Procedures (7 CFR part 372), APHIS has considered how to properly examine the potential environmental impacts of issuing permits for the introduction of genetically engineered regulated articles into the United States.

In reviewing Southern Gardens Citrus Nursery, LLC's permit application, APHIS has determined that the commercial release of genetically engineered CTV does not involve genetically engineering citrus trees, and that use of the genetically engineered CTV will have no impact on the genetics of the trees. However, APHIS has decided to prepare an EIS to better understand the potential for environmental impacts associated with the issuance of a permit. The EIS will examine the broad and cumulative environmental impacts of the requested permit, including potential impacts of the proposed action on the human environment and alternative courses of action. This notice identifies potential issues and alternatives that we will study in the EIS and requests public comment to further delineate the issues and the scope of the alternatives. The State of Florida will be a cooperating agency for the preparation of the EIS.

Alternatives

The Federal action being considered is whether to approve the permit request from Southern Gardens Citrus Nursery, LLC. This notice identifies reasonable alternatives and potential issues that may be studied in the EIS. We are requesting public comments to further delineate the range of alternatives and environmental impacts and issues to be evaluated in the EIS for the permit application.

The EIS will consider a range of reasonable alternatives. APHIS is currently considering two alternatives: (1) Take no action, i.e., APHIS would not approve the permit request, or (2) approve the permit request from Southern Gardens Citrus Nursery, LLC.

Environmental Issues for Consideration

We have also identified the following potential environmental issues for consideration in the EIS. We are requesting that the public provide information on the following questions during the comment period on this notice:

• Are there any new or greater plant pest or environmental risks or apparent benefits associated with the strategy of using genetically engineered CTV instead of the currently available approaches to manage citrus greening disease? If so, please explain.

• The EIS will focus on the development and use of genetic engineering to offer a novel pest control program. Are there any environmental risks that APHIS should consider in detail for CTV expressing spinach defensin?

• What are the potential risks of nontarget impacts associated with this technology?

Comments that identify other issues or alternatives that should be considered for examination in the EIS would be especially helpful. All comments received during the scoping period will be carefully considered in developing the final scope of the EIS. Upon completion of the draft EIS, a notice announcing its availability and an opportunity to comment on it will be published in the Federal Register.

Authority: 7 U.S.C. 7701-7772 and 7781-7786; 31 U.S.C. 9701; 7 CFR 2.22, 2.80, and 371.3.

Done in Washington, DC, this 4th day of April 2017.
Michael C. Gregoire,
Acting Administrator, Animal and Plant Health Inspection Service.

[FR Doc. 2017-07106 Filed 4-7-17; 8:45 am]

BILLING CODE 3410-34-P